SMALL BUSINESS ADMINISTRATION

Advisory Committee on Veterans Business Affairs; Notice of Open Nominations

AGENCY: U.S. Small Business Administration.

ACTION: Notice of open nominations for veteran small business owners and veteran service organization representatives for the Advisory Committee on Veterans Business Affairs.

SUMMARY: The U.S. Small Business Administration seeks member nominations from veteran owned small businesses and veteran service organizations to serve on the Advisory Committee on Veterans Business Affairs.

DATES: Nomination applications due by 11:59 p.m. (EST), October 14, 2016.

ADDRESSES: Send nominations to veteransbusiness@sba.gov.

SUPPLEMENTARY INFORMATION: The U.S. Small Business Administration (SBA) seeks member nominations from veteran owned small businesses and veteran service organizations (VSO) to serve on the Advisory Committee on Veterans Business Affairs (ACVBA).

Additional Information: Nominations of eligible representatives must be sent via email to veteransbusiness@sba.gov. The submission deadline for nominations is October 14, 2016. Submissions should include the following information:

• Name and contact information of the individual

• Name and contact information of represented organization

• If VSO nomination, include a description of how the organization supports veteran and service-disabled owned small business issues

• If nominee is a member of a local chapter of VSO, a national-level endorsement letter from the VSO is required

The SBA Administrator will appoint individuals who will serve on the ACVBA for a period of three years.

The Veterans Entrepreneurship and Small Business Development Act of 1999—Public Law 106-50—established the ACVBA to serve as an independent source of advice and policy recommendations on veteran owned small business opportunities. Through an annual report, the ACVBA reports to the SBA Administrator, SBA's Associate Administrator for Veterans Business Development, the Congress, the President, and other U.S. policy makers. The ACVBA is comprised of 15 members—eight members represent veteran owned small business and seven members represent veteran service or military organizations.

On Aug. 13, 2014, the Office of Management and Budget (OMB) published in the Federal Register revised guidance on individuals who are not eligible to serve on federal advisory committees. In accordance with OMB guidance, the President directed agencies and departments in the Executive Branch not to appoint or re-appoint federally registered lobbyists to advisory committees and other boards and commissions.

Dated: October 3, 2016.
Miguel J. L'Heureux,
SBA Committee Management Officer.

[FR Doc. 2016-24534 Filed 10-11-16; 8:45 am]

BILLING CODE P